DEPARTMENT OF HEALTH AND HUMAN SERVICES

Centers for Disease Control and Prevention

Disease, Disability, and Injury Prevention and Control Special Emphasis Panel (SEP): Funding Opportunity Announcement GH11-002, Initial Review

Correction: This notice was published in the Federal Register on April 12, 2011, Volume 76, Number 70, Page 20355. The contact person for the aforementioned meeting has been changed to the following:

Contact Person for More Information: Diana Bartlett, M.P.H., Scientific Review Officer, CDC, 1600 Clifton Road, NE., Mailstop D-72, Atlanta, Georgia 30333, Telephone: (404) 639-4938.

The Director, Management Analysis and Services Office, has been delegated the authority to sign Federal Register notices pertaining to announcements of meetings and other committee management activities, for both the Centers for Disease Control and Prevention and the Agency for Toxic Substances and Disease Registry.

Dated: April 21, 2011.
Elaine L. Baker,
Director, Management Analysis and Services Office, Centers for Disease Control and Prevention.

[FR Doc. 2011-10385 Filed 4-28-11; 8:45 am]

BILLING CODE 4163-18-P